DEPARTMENT OF HOMELAND SECURITY

Coast Guard

[Docket No. USCG-2022-0251]

Pacific Coast Port Access Route Study; Notice of Availability and Request for Comments

AGENCY: Coast Guard, DHS.

ACTION: Notice of availability and request for comments.

SUMMARY: The Coast Guard announces the availability, online, of an information center for the public to review information, materials, and the announcement of upcoming public engagements related to the ongoing Pacific Coast Port Access Route Study (PAC-PARS), which is examining existing shipping routes and waterway uses, and, to the extent practicable, reconciling the paramount right of navigation within designated port access routes with other waterway uses.

FOR FURTHER INFORMATION CONTACT: For information about this document call or email LCDR Sara Conrad, Coast Guard Pacific Area (PAC-544); telephone (510) 437-3813, email Sara.E.Conrad@uscg.mil.

SUPPLEMENTARY INFORMATION:

Background and Purpose

On July 29, 2021, the Coast Guard announced a Port Access Route Study (PARS) that will cover the Pacific Coast from the Washington/Canada border to the California/Mexico border. The Coast Guard is conducting this PARS to evaluate safe access routes for the movement of vessel traffic proceeding to or from ports or places along the western seaboard of the United States and to determine whether a Shipping Safety Fairway (“Fairway”) and/or routing measures should be established, adjusted or modified. The PARS will evaluate the continued applicability of, and the need for modifications to, current vessel routing measures. The data gathered during this Pacific Coast PARS (PAC-PARS) may result in the recommendation for the establishment of one or more new vessel routing measures, modification of existing routing measures, or disestablishment of existing routing measures off the Pacific Coast along Washington, Oregon, and California.

In order to keep the public informed on the PARS as the study proceeds, the Coast Guard Pacific Area has set up an online information center that can be found here: https://homeport.uscg.mil/Lists/Content/DispForm.aspx?ID=77149&Source=/Lists/Content/DispForm.aspx?ID=77149.

This notice is issued under authority of 5 U.S.C. 552(a).

Dated: April 28, 2022.
K.B. Reed,
Captain, U.S. Coast Guard, Chief, PACAREA Preparedness Division (PAC-5).

[FR Doc. 2022-10006 Filed 5-13-22; 8:45 am]

BILLING CODE 9110-04-P